DEPARTMENT OF ENERGY

Federal Energy Regulatory Commission

Combined Notice of Filings No. 2

September 2, 2010.

Take notice that the Commission has received the following Natural Gas Pipeline Rate and Refund Report filings:

Docket Numbers: RP10-1223-000.

Applicants: Natural Gas Pipeline Company of America.

Description: Natural Gas Pipeline Company of America LLC submits First Revised Sheet 405 et al. to FERC Gas Tariff, Seventh Revised Volume 1 to be effective 11/1/10.

Filed Date: 09/01/2010.

Accession Number: 20100901-0219.

Comment Date: 5 p.m. Eastern Time on Monday, September 13, 2010.

Docket Numbers: RP10-1224-000.

Applicants: MoGas Pipeline LLC.

Description: MoGas Pipeline LLC submits tariff filing per 154.203: NAESB Compliance Filing to be effective 11/1/2010.

Filed Date: 09/01/2010.

Accession Number: 20100901-5153.

Comment Date: 5 p.m. Eastern Time on Monday, September 13, 2010.

Docket Numbers: RP10-1225-000.

Applicants: Natural Gas Pipeline Company of America.

Description: Natural Gas Pipeline of America LLC submits Original Sheet 35C.19 et al. of its FERC Gas Tariff, Seventh Revised Volume 1 to be effective 9/1/10.

Filed Date: 09/01/2010.

Accession Number: 20100901-0222.

Comment Date: 5 p.m. Eastern Time on Monday, September 13, 2010.

Docket Numbers: RP10-1226-000.

Applicants: Clear Creek Storage Company, L.L.C.

Description: Clear Creek Storage Company, L.L.C. submits tariff filing per 154.203: NAESB 1.9 Compliance Filing to be effective 11/1/2010.

Filed Date: 09/01/2010.

Accession Number: 20100901-5154.

Comment Date: 5 p.m. Eastern Time on Monday, September 13, 2010.

Docket Numbers: RP10-1227-000.

Applicants: Williston Basin Interstate Pipeline Co.

Description: Williston Basin Interstate Pipeline Company submits Fifth Revised Sheet 254 et al. to FERC Gas Tariff, Second Revised Volume 1 to be effective 11/1/10.

Filed Date: 09/01/2010.

Accession Number: 20100901-0220.

Comment Date: 5 p.m. Eastern Time on Monday, September 13, 2010.

Docket Numbers: RP10-1228-000.

Applicants: Midcontinent Express Pipeline LLC.

Description: Midcontinent Express Pipeline LLC submits tariff filing per 154.203: Order No. 587-U Compliance Filing to be effective 11/1/2010.

Filed Date: 09/01/2010.

Accession Number: 20100901-5156.

Comment Date: 5 p.m. Eastern Time on Monday, September 13, 2010.

Docket Numbers: RP10-1229-000.

Applicants: High Island Offshore System, L.L.C.

Description: High Island Offshore System, LLC submits Sixth Revised Sheet 92 et al. to FERC Gas Tariff, Third Revised Volume 1 to be effective 11/1/10.

Filed Date: 09/01/2010.

Accession Number: 20100901-0221.

Comment Date: 5 p.m. Eastern Time on Monday, September 13, 2010.

Docket Numbers: RP10-1230-000.

Applicants: Cimarron River Pipeline, LLC.

Description: Cimarron River Pipeline, LLC submits tariff filing per 154.203: NAESB Version 1.9 Compliance Filing (Order No. 587-U) to be effective 11/1/2010.

Filed Date: 09/01/2010.

Accession Number: 20100901-5157.

Comment Date: 5 p.m. Eastern Time on Monday, September 13, 2010.

Docket Numbers: RP10-1231-000.

Applicants: KO Transmission Company.

Description: KO Transmission Company submits Fifth Revised Sheet 50 et al. to its FERC Gas Tariff, Original Volume 1 to be effective 11/1/2010.

Filed Date: 09/01/2010.

Accession Number: 20100901-0223.

Comment Date: 5 p.m. Eastern Time on Monday, September 13, 2010.

Docket Numbers: RP10-1232-000.

Applicants: Iroquois Gas Transmission System, L.P.

Description: Iroquois Gas Transmission System, L.P. submits tariff filing per 154.203: FERC Order 587-U NAESB Version 1.9 to be effective 11/1/2010.

Filed Date: 09/01/2010.

Accession Number: 20100901-5159.

Comment Date: 5 p.m. Eastern Time on Monday, September 13, 2010.

Docket Numbers: RP10-1233-000.

Applicants: Pine Prairie Energy Center, LLC.

Description: Pine Prairie Energy Center, LLC submits tariff filing per 154.203: Pine Prairie Energy Center, LLC—Order No. 587-U Compliance Filing to be effective 11/1/2010.

Filed Date: 09/01/2010.

Accession Number: 20100901-5160.

Comment Date: 5 p.m. Eastern Time on Monday, September 13, 2010.

Docket Numbers: RP10-1234-000.

Applicants: Discovery Gas Transmission LLC.

Description: Discovery Gas Transmission LLC submits tariff filing per 154.203: NAESB V 1.9 to be effective 11/1/2010.

Filed Date: 09/01/2010.

Accession Number: 20100901-5162.

Comment Date: 5 p.m. Eastern Time on Monday, September 13, 2010.

Docket Numbers: RP10-1235-000.

Applicants: Empire Pipeline, Inc.

Description: Empire Pipeline, Inc. submits tariff filing per 154.203: ACA Compliance Filing to be effective 10/1/2010.

Filed Date: 09/01/2010.

Accession Number: 20100901-5163.

Comment Date: 5 p.m. Eastern Time on Monday, September 13, 2010.

Docket Numbers: RP10-1236-000.

Applicants: Columbia Gas Transmission, LLC.

Description: Columbia Gas Transmission, LLC submits tariff filing per 154.203: NAESB V 1.9 filing to be effective 9/17/2010.

Filed Date: 09/01/2010.

Accession Number: 20100901-5164.

Comment Date: 5 p.m. Eastern Time on Monday, September 13, 2010.

Docket Numbers: RP10-1237-000.

Applicants: Alliance Pipeline L.P.

Description: Alliance Pipeline L.P. submits tariff filing per 154.203: NAESB version 1.9 tariff filing to be effective 11/1/2010.

Filed Date: 09/01/2010.

Accession Number: 20100901-5165.

Comment Date: 5 p.m. Eastern Time on Monday, September 13, 2010.

Docket Numbers: RP10-1238-000.

Applicants: Columbia Gulf Transmission Company.

Description: Columbia Gulf Transmission Company submits tariff filing per 154.203: NAESB Version 1.9 to be effective 9/17/2010.

Filed Date: 09/01/2010.

Accession Number: 20100901-5167.

Comment Date: 5 p.m. Eastern Time on Monday, September 13, 2010.

Docket Numbers: RP10-1239-000.

Applicants: Stingray Pipeline Company, L.L.C.

Description: Update Event Surcharge of Stingray Pipeline Company, L.L.C.

Filed Date: 09/01/2010.

Accession Number: 20100901-5169.

Comment Date: 5 p.m. Eastern Time on Monday, September 13, 2010.

Docket Numbers: RP10-1240-000.

Applicants: Vector Pipeline L.P.

Description: Vector Pipeline L.P. submits tariff filing per 154.203: NAESB 1.9 Compliance Filing to be effective 11/1/2010.

Filed Date: 09/01/2010.

Accession Number: 20100901-5168.

Comment Date: 5 p.m. Eastern Time on Monday, September 13, 2010.

Docket Numbers: RP10-1241-000.

Applicants: Pine Needle LNG Company, LLC.

Description: Pine Needle LNG Company, LLC submits tariff filing per 154.203: Pine Needle Order No. 587-U Compliance (NAESB Version 1.9) to be effective 11/1/2010.

Filed Date: 09/01/2010.

Accession Number: 20100901-5175.

Comment Date: 5 p.m. Eastern Time on Monday, September 13, 2010.

Docket Numbers: RP10-1242-000.

Applicants: Kern River Gas Transmission Company.

Description: Kern River Gas Transmission Company submits tariff filing per 154.203: NAESB 1.9 to be effective 11/1/2010.

Filed Date: 09/01/2010.

Accession Number: 20100901-5191.

Comment Date: 5 p.m. Eastern Time on Monday, September 13, 2010.

Docket Numbers: RP10-1243-000.

Applicants: Questar Pipeline Company.

Description: Questar Pipeline Company submits tariff filing per 154.203: NAESB 1.9 Order 587-U Compliance to be effective 11/1/2010.

Filed Date: 09/01/2010.

Accession Number: 20100901-5199.

Comment Date: 5 p.m. Eastern Time on Monday, September 13, 2010.

Docket Numbers: RP10-1244-000.

Applicants: Kinder Morgan Louisiana Pipeline LLC.

Description: Kinder Morgan Louisiana Pipeline LLC submits tariff filing per 154.203: Order No. 587-U Compliance Filing to be effective 11/1/2010.

Filed Date: 09/01/2010.

Accession Number: 20100901-5204.

Comment Date: 5 p.m. Eastern Time on Monday, September 13, 2010.

Docket Numbers: RP10-1245-000.

Applicants: Questar Overthrust Pipeline Company.

Description: Questar Overthrust Pipeline Company submits tariff filing per 154.203: NAESB 1.9 Order 587-U Compliance to be effective 11/1/2010.

Filed Date: 09/01/2010.

Accession Number: 20100901-5207.

Comment Date: 5 p.m. Eastern Time on Monday, September 13, 2010.

Docket Numbers: RP10-1246-000.

Applicants: Questar Southern Trails Pipeline Company.

Description: Questar Southern Trails Pipeline Company submits tariff filing per 154.203: NAESB 1.9 Compliance filing to be effective 11/1/2010.

Filed Date: 09/01/2010.

Accession Number: 20100901-5209.

Comment Date: 5 p.m. Eastern Time on Monday, September 13, 2010.

Docket Numbers: RP10-1247-000.

Applicants: National Fuel Gas Supply Corporation.

Description: National Fuel Gas Supply Corporation submits tariff filing per 154.203: NAESB Version 1.9 to be effective 11/1/2010.

Filed Date: 09/01/2010.

Accession Number: 20100901-5210.

Comment Date: 5 p.m. Eastern Time on Monday, September 13, 2010.

Docket Numbers: RP10-1248-000.

Applicants: Central Kentucky Transmission Company.

Description: Central Kentucky Transmission Company submits tariff filing per 154.203: NAESB V 1.9 to be effective 9/17/2010.

Filed Date: 09/01/2010.

Accession Number: 20100901-5212.

Comment Date: 5 p.m. Eastern Time on Monday, September 13, 2010.

Docket Numbers: RP10-1249-000.

Applicants: Tres Palacios Gas Storage LLC.

Description: Tres Palacios Gas Storage LLC submits tariff filing per 154.203: Tres Palacios Gas Storage LLC—Compliance Filing Order No. 587-U to be effective 11/1/2010.

Filed Date: 09/01/2010.

Accession Number: 20100901-5215.

Comment Date: 5 p.m. Eastern Time on Monday, September 13, 2010.

Docket Numbers: RP10-1250-000.

Applicants: CenterPoint Energy—Mississippi River Transmission.

Description: CenterPoint Energy—Mississippi River Transmission Corporation submits tariff filing per 154.203: NAESB Compliance Filing (Version 1.9) to be effective 11/1/2010.

Filed Date: 09/01/2010.

Accession Number: 20100901-5218.

Comment Date: 5 p.m. Eastern Time on Monday, September 13, 2010.

Docket Numbers: RP10-1251-000.

Applicants: White River Hub, LLC.

Description: White River Hub, LLC submits tariff filing per 154.203: NAESB 1.9 Order 587-U Compliance to be effective 11/1/2010.

Filed Date: 09/01/2010.

Accession Number: 20100901-5219.

Comment Date: 5 p.m. Eastern Time on Monday, September 13, 2010.

Docket Numbers: RP10-1252-000.

Applicants: Monroe Gas Storage Company, LLC.

Description: Monroe Gas Storage Company, LLC submits tariff filing per 154.203: NAESB Compliance Filing to be effective 11/1/2010.

Filed Date: 09/01/2010.

Accession Number: 20100901-5222.

Comment Date: 5 p.m. Eastern Time on Monday, September 13, 2010.

Docket Numbers: RP10-1253-000.

Applicants: Cameron Interstate Pipeline, LLC.

Description: Cameron Interstate Pipeline, LLC submits tariff filing per 154.203: NAESB Compliance Filing to be effective 11/1/2010.

Filed Date: 09/01/2010.

Accession Number: 20100901-5223.

Comment Date: 5 p.m. Eastern Time on Monday, September 13, 2010.

Docket Numbers: RP10-1254-000.

Applicants: Crossroads Pipeline Company.

Description: Crossroads Pipeline Company submits tariff filing per 154.203: NAESB V 1.9 to be effective 9/17/2010.

Filed Date: 09/01/2010.

Accession Number: 20100901-5224.

Comment Date: 5 p.m. Eastern Time on Monday, September 13, 2010.

Docket Numbers: RP10-1255-000.

Applicants: Liberty Gas Storage, LLC.

Description: Liberty Gas Storage, LLC submits tariff filing per 154.203: NAESB Compliance Filing to be effective 11/1/2010.

Filed Date: 09/01/2010.

Accession Number: 20100901-5237.

Comment Date: 5 p.m. Eastern Time on Monday, September 13, 2010.

Docket Numbers: RP10-1256-000.

Applicants: Columbia Gulf Transmission Company.

Description: Columbia Gulf Transmission Company submits tariff filing per 154.501: Cash out to be effective N/A.

Filed Date: 09/01/2010.

Accession Number: 20100901-5235.

Comment Date: 5 p.m. Eastern Time on Monday, September 13, 2010.

Docket Numbers: RP10-1257-000.

Applicants: Empire Pipeline, Inc.

Description: Empire Pipeline, Inc. submits tariff filing per 154.203: Empire NAESB V 1.9 to be effective 11/1/2010.

Filed Date: 09/02/2010.

Accession Number: 20100902-5033.

Comment Date: 5 p.m. Eastern Time on Tuesday, September 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-22423 Filed 9-8-10; 8:45 am]

BILLING CODE 6717-01-P